DEPARTMENT OF TRANSPORTATION

Federal Aviation Administration

14 CFR Part 39

[Docket No. FAA-2005-20968; Directorate Identifier 94-CE-15-AD]

RIN 2120-AA64

Airworthiness Directives; Tiger Aircraft LLC Models AA-5, AA-5A, AA-5B, and AG-5B Airplanes

AGENCY: Federal Aviation Administration (FAA), DOT.

ACTION: Notice of proposed rulemaking (NPRM).

SUMMARY: The FAA proposes to revise Airworthiness Directive (AD) 95-19-15, which applies to all Tiger Aircraft LLC (Type Certificate A16EH formerly held by American General Aircraft Corporation and Grumman American Aviation Corporation) Models AA-5, AA-5A, AA-5B, and AG-5B airplanes. AD 95-19-15 currently requires you to inspect the wing attach shoulder bolts for fretting, scoring, wear, or enlarged or elongated mounting holes (known as damage from hereon); replace any damaged parts; repair any damaged areas; inspect the wing spar at the center spar clearance gap for excessive clearance; and shim the spar if excessive clearance is found. Since we issued AD 95-19-15, FAA has received and evaluated new service information that limits the serial numbers for the Model AG-5B airplanes of AD 95-19-15. Consequently, this proposed AD retains all the actions of AD 95-19-15 and includes the serial numbers for the Model AG-5B airplanes in the applicability section. We are issuing this proposed AD to prevent wing attach shoulder bolt failure, which, if not detected and corrected, could lead to structural damage of the wing/fuselage to the point of failure.

DATES: We must receive any comments on this proposed AD by July 18, 2005.

ADDRESSES: Use one of the following to submit comments on this proposed AD:

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact American General Aircraft Corporation, P.O. Box 5737, Greenville, MS 38704.

To view the comments to this proposed AD, go to http://dms.dot.gov. The docket number is FAA-2005-20968; Directorate Identifier 94-CE-15-AD.

FOR FURTHER INFORMATION CONTACT: Richard Beckwith, Aerospace Engineer, 1600 Stewart Avenue, Suite 410, Westbury, NY 11590; telephone: 516-794-5531; facsimile: 516-794-5531.

SUPPLEMENTARY INFORMATION:

Comments Invited

How do I comment on this proposed AD? We invite you to submit any written relevant data, views, or arguments regarding this proposal. Send your comments to an address listed under ADDRESSES. Include the docket number, “FAA-2005-20968; Directorate Identifier 94-CE-15-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-20968. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? The FAA has received four reports (three in England and one in the United States) of wing attach shoulder bolt failure on Tiger Aircraft LLC (Type Certificate A16EH formerly held by American General Aircraft Corporation (AGAC) and Grumman American Aviation Corporation (GAAC)) Models AA-5, AA-5A, AA-5B, and AG-5B airplanes. Investigation reveals that excessive wing to center spar clearance could have contributed to the bolt failures; however, in each of the four instances, the bolts failed before reaching the service life of 7,250 hours time-in-service (TIS). The FAA has determined that, to assure the safety of these airplanes, the established service life of these bolts needed review. Our review of service life on Tiger Aircraft LLC (Type Certificate A16EH formerly held by AGAC and GAAC) Models AA-5, AA-5A, AA-5B, and AG-5B airplanes caused us to issue AD 95-19-15, Amendment 39-9377 (60 FR 48628, September 20, 1995). AD 95-19-15 currently requires the following on Tiger Aircraft LLC (Type Certificate A16EH formerly held by AGAC and GAAC) Models AA-5, AA-5A, AA-5B, and AG-5B airplanes:

—Inspect the wing attach shoulder bolts for fretting, scoring, wear, or enlarged or elongated mounting holes (known as damage from hereon), and replace any damaged parts and repairing any damaged areas;

—Inspect the wing spar at the center spar clearance gap for excessive clearance; and

—Shim the spar if excessive clearance is found.

What has happened since AD 95-19-15 to initiate this proposed AD action? Since we issued AD 95-19-15, FAA has received and evaluated new service information that limits the serial numbers for the Model AG-5B airplanes of AD 95-19-15.

What is the potential impact if FAA took no action? Wing attach shoulder bolt failure, if not detected and corrected, could lead to structural damage of the wing/fuselage to the point of failure.

Is there service information that applies to this subject? The AGAC has issued Service Bulletin No. SB-185-A, Revision A, dated January 10, 2005. This revision updates the serial number effectivity for the Model AG-5B, company name and address change, clarifies inspection times, and reflects the release of the Tiger Aircraft Model AG-5B airplane maintenance manual.

What are the provisions of this service information? The service bulletin includes procedures for:

—Inspecting for fretting, scoring, or wear (removal of the cad plating) to the shoulder of the inboard wing attach shoulder bolt;

—Replacing any bolt found with fretting, scoring, or threads that contact the shoulder of the bolt;

—Inspecting the shoulder bolt profile for a smooth machined area between the threads and the shoulder bevel;

—Inspecting the mounting holes in the wing spar and the center section spar for enlargement or elongation that exceeds the specified dimension;

—Reaming and bushing any mounting hole that exceeds the specified dimension; and

—Inspecting the wing spar at the center spar clearance gap for excessive clearance, and shimming the spar if excessive clearance is found.

FAA's Determination and Requirements of This Proposed AD

What has FAA decided? We have evaluated all pertinent information and identified an unsafe condition that is likely to exist or develop on other products of this same type design. For this reason, we are proposing AD action.

What would this proposed AD require? This proposed AD would revise AD 95-19-15 with a new AD that would incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 3,700 airplanes in the U.S. registry.

What would be the cost impact of this proposed AD on owners/operators of the affected airplanes? We estimate the following costs to do this proposed inspection:

Labor cost | Parts cost | Total cost per airplane | Total cost on U.S. operators
10 work hours X $65 = $650 | Not included | $650 | 3,700 X $650 = $2,405,000.

We have no way of determining the number of airplanes that may need this replacement of any damaged bolts or repair as a result of the proposed inspection.

What is the difference between the cost impact of this proposed AD and the cost impact of AD 95-19-15? The differences are the change in the labor cost work hour factor ($60) used in AD-95-19-15 and the labor cost work hour factor of $65 used in this NPRM and the change in the serial number applicability. There are no additional actions required in this proposed AD.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20968; Directorate Identifier 94-CE-15-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-19-15, Amendment 39-9377 (60 FR 48628, September 20, 1995), and by adding a new AD to read as follows:

Tiger Aircraft LLC (Type Certificate A16EH formerly held by American General Aircraft Corporation and Grumman American Aviation Corporation): Docket No. FAA-2005-20968; Directorate Identifier 94-CE-15-AD

When Is the Last Date I Can Submit Comments on This Proposed AD?

(a) We must receive comments on this proposed airworthiness directive (AD) by July 18, 2005.

What Other ADs Are Affected By This Action?

(b) This AD revises AD 95-19-15, Amendment 39-9377.

What Airplanes Are Affected by This AD?

(c) This AD affects the following airplane models and serial numbers that are certificated in any category:

Model | Serial numbers
AA-5 | All Serial Numbers.
AA-5A | All Serial Numbers.
AA-5B | All Serial Numbers.
AG-5B | 99998, 10000 through 10174.

What Is the Unsafe Condition Presented in This AD?

(d) This AD is the result of FAA receiving and evaluating new service information that limits the serial numbers for the Model AG-5B airplanes of AD 95-19-15. The actions specified in this AD are intended to prevent wing attach shoulder bolt failure, which, if not detected and corrected, could lead to structural damage of the wing/fuselage to the point of failure.

What Must I Do To Address This Problem?

(e) To address this problem, you must do the following, unless already done:

Actions | Compliance | Procedures
(1) Inspect any inboard wing attach shoulder bolt for: (i) Fretting, scoring, or wear (removal of the cad plating) to the shoulder of the bolt (ii) A smooth machined area between the threads and the shoulder bevel of the shoulder bolt profile | Within the next 100 hours aircraft time-in-service (TIS) after November 17, 1995 (the effective date of AD 95-19-15), unless already done | Follow American General Aircraft Corporation Service Bulletin No. SB-185-A, Revision A, dated January 10, 2005.
(2) Replace any inboard wing attach shoulder bolt with wear (removal of the cad plating from the shoulder of the bolt) or if the threads contact the shoulder of the bolt found during the inspections required in paragraph (e)(1) of this Ad | Before further flight after the inspection required by paragraph (e)(1) of this Ad | Follow American General Aircraft Corporation Service Bulletin, No. SB-185-A, Revision A, January 10, 2005.
(3) Inspect the mounting holes in the wing spar and the center section spar for enlargement or elongation that exceeds specified dimension | Within the next 100 hours aircraft time-in-service (TIS) after November 17, 1995 (the effective date of AD 95-19-15), unless already done | Follow American General Aircraft Corporation Service Bulletin No. SB-185-A, Revision A, dated of January 10, 2005.
(4) Ream and bush any mounting hole that exceeds the specified dimension found during the inspection required by paragraph (e)(3) of this AD | Before further flight after the inspection required by paragraph (e)(3) of this AD | Follow American General Aircraft Corporation Service Bulletin No. SB-185-A, Revision A, dated January 10, 2005.
(5) Inspect the wing spar at the center spar clearance gap for excessive clearance, and shim the spar if excessive clearance is found | Before further flight after the inspection required by required by Service Bulletin paragraphs (e)(1) of this AD | Follow American General Aircraft Corporation Service Bulletin No. SB-185-A, Revision A, dated January 10, 2005.
(6) Do not install any wing attach shoulder bolt that has wear resulting in removal of the cad plating from the shoulder of the bolt or if the threads contact the shoulder bevel of the shoulder bolt profile | As of the effective date of this Ad | Not Applicable.

May I Request an Alternative Method of Compliance?

(f) You may request a different method of compliance or a different compliance time for this AD by following the procedures in 14 CFR 39.19. Unless FAA authorizes otherwise, send your request to your principal inspector. The principal inspector may add comments and will send your request to the Manager, New York Aircraft Certification Office (ACO), FAA. For information on any already approved alternative methods of compliance, contact Richard Beckwith, Aerospace Engineer, 1600 Stewart Avenue, Suite 410, Westbury, NY 11590; telephone: 516-794-5531; facsimile: 516-794-5531.

May I Get Copies of the Documents Referenced in This AD?

(g) To get copies of the documents referenced in this AD, contact American General Aircraft Corporation, P.O. Box 5737, Greenville, MS 38704. To view the AD docket, go to the Docket Management Facility; U.S. Department of Transportation, 400 Seventh Street, SW., Nassif Building, Room PL-401, Washington, DC, or on the Internet at http://dms.dot.gov. The docket number is FAA-2005-20968; Directorate ID 94-CE-15-AD.

Issued in Kansas City, Missouri, on May 13, 2005.
David R. Showers,
Acting Manager, Small Airplane Directorate, Aircraft Certification Service.

[FR Doc. 05-9974 Filed 5-18-05; 8:45 am]

BILLING CODE 4910-13-P